DEPARTMENT OF THE INTERIOR

Fish and Wildlife Service

Notice of Decision and Availability of the Record of Decision Document for the Comprehensive Conservation Plan/Environmental Impact Statement for the Little Pend Oreille National Wildlife Refuge, Stevens County, Washington.

AGENCY: Fish and Wildlife Service, Interior.

ACTION: Notice of Decision and Availability of the Record of Decision Document for the Little Pend Oreille National Wildlife Refuge Comprehensive Conservation Plan/Environmental Impact Statement.

SUMMARY: This notice makes available to the public the Record of Decision (ROD) for the Final Comprehensive Conservation Plan and Final Environmental Impact Statement (Final CCP/EIS) for Little Pend Oreille National Wildlife Refuge, Stevens County, Washington. Pursuant to Council on Environmental Quality regulations implementing the National Environmental Policy Act (NEPA) (40 CFR 1505.2), and U.S. Fish and Wildlife Service (Service) Comprehensive Conservation Plan policy, the Service issues this ROD upon consideration of the Final CCP/EIS prepared for the Proposed Action to Develop and Implement a Comprehensive Conservation Plan for the Little Pend Oreille National Wildlife Refuge. The Final CCP/EIS was released to the public on April 21, 2000. A notice of Availability of the Final CCP/EIS was published in the Federal Register on April 25, 2000 (65 FR 24221). The ROD which documents the selection of the Preferred Alternative as presented in the Final CCP/EIS, was signed by U.S. Fish and Wildlife Service Acting Regional Director Dan Diggs, on May 31, 2000. The determination was based on a thorough analysis of the environmental, social, and economic considerations presented in the FEIS.

FOR FURTHER INFORMATION CONTACT: Inquiries regarding the Record of Decision or the Final CCP/EIS should be submitted to the Refuge Manager, Little Pend Oreille National Wildlife Refuge, 1310 Bear Creek Road, Colville, Washington 99114, phone (509) 684-8384. Copies of the CCP/EIS and this ROD may be obtained from the above address; or downloaded from http://www.r1.fws.gov/planning/plnhome.html.

SUPPLEMENTARY INFORMATION: The text of the Record of Decision follows.

Record of Decision for the Final Comprehensive Conservation Plan/Environmental Impact Statement for Little Pend Oreille National Wildlife Refuge

The U.S. Fish and Wildlife Service (Service) began the process of developing a management plan for the 40,198-acre Little Pend Oreille National Wildlife Refuge (Refuge) in 1995. The National Wildlife Refuge System Improvement Act of 1997 (Public Law 105-57) now requires that each national wildlife refuge be managed under a Comprehensive Conservation Plan. The purpose of this Plan is to develop a vision for the Refuge and provide management guidance for protection, maintenance, restoration, and public use of Refuge resources during the next 15 years.

This Record of Decision (ROD) for the Final Comprehensive Conservation Plan/Environmental Impact Statement for Little Pend Oreille National Wildlife Refuge (final CCP/EIS) is a statement of the decision made, including, how the decision responds to primary issues, other alternatives considered, public involvement in the decision making process, and the basis for the decision.

Decision (Selected Alternative E)

The Refuge will implement Alternative E, which was identified as the alternative that best satisfies Refuge System and Service missions, as well as long-term management objectives in the final CCP/EIS. Alternative E recognizes both the need to protect natural and cultural resources and to provide opportunities for compatible recreational uses. Some guidelines and actions in Alternative E remain consistent with those presented in the draft CCP/EIS. Others were modified in the final CCP/EIS to respond to public comments and concerns.

The Service plans to manage the Refuge for the next 15 years through implementation of Alternative E. Key Refuge management components of Alternative E follow.

Forest Management. Restore natural forest structure and composition creating a mosaic of stands which approximate the Historic Range of Variability within each forest type. For the long-term, promote large tree size and stand development into mature and old stages over approximately 50 percent of the Refuge. Use precommercial and commercial thinning, selective harvest techniques, and prescribed fire. Suppress all wildfires outside of prescription. Promote protection of wildlife corridors and buffer zones with neighboring landowners and managers.

Riparian and Stream Management. Repair and improve roads that limit fish passage or cause excessive sedimentation, and plant and stabilize streambanks. In-stream flows take priority over diversion flows. Protect riparian areas, water bodies and fish bearing streams by enacting a 300-foot slope distance setback (600 feet, including both sides of a stream channel) or to the extent of the outer edges of the 100-year floodplain, whichever is greatest for dispersed camping, commercial thinning, and road construction.

Roadless Area. Manage the 5,520-acre roadless area in the southeast corner of the Refuge to protect the primitive roadless character and associated values. The roadless area will be studied further concurrent with development of the step-down Habitat Management Plan and the Public Use Management Plan to determine its suitability as a Wilderness Study Area.

Use of Old Fields. Plant up to 200 upland acres with crops to provide wildlife forage and wildlife viewing opportunities. Allow about 135 acres to revert to native vegetation, using prescribed fire and thinning to enhance natural succession. Maintain remaining upland openings with mowing, prescribed fire, and other methods.

Noxious Weed Management. Develop an integrated weed management plan to treat existing weeds, minimize new weed introduction, and prevent conditions that favor weed establishment and spread.

Entrances and Roads. Provide nine entrances and close minor entry points. Close or remove numerous selected roads as outlined in the road management criteria. The density of open roads in 14 subwatersheds is not to exceed 1.5 miles per square mile from April 15 to December 31 and 0.5 miles per square mile from January 1 to April 14. Close all roads except the County-maintained roads from January 1 to April 14.

Hunting. Expand quality hunting opportunities (spring turkey, grouse, and deer/elk bow hunts). A Refuge-wide hunting closure is retained from January 1 through August 31, with the exception of allowing hunting during the spring turkey season. The use of bait to hunt any wildlife on the Refuge as well as hound hunting for cougar, black bear, coyote, fox or bobcat, is prohibited. Specialized hunter education programs will be offered.

Wildlife Observation, Interpretation, and Photography. Increase available wildlife viewing, information, and opportunities and offer programs and events such as a summer youth program. Interpretation will focus on the natural and cultural history of the area.

Fishing. Continue current April through October fishing season and emphasize catch and release fishing in the Little Pend Oreille River. Increase opportunities for natural spawning in lakes. Continue stocking program in lakes with emphasis on native sources.

Camping. Allow camping in designated campgrounds from April 15 to December 31 and in designated dispersed sites only between October 1 and December 31. Close undesignated campsites located in riparian areas.

Horseback Riding. Develop an equestrian plan, specifically addressing overnight use, trails, feed, and maintenance.

Off-road Vehicles and Snowmobiling. Control illegal use with law enforcement patrols. Discontinue snowmobiling on all Refuge roads and lands except for passage through the Refuge on four miles of Olson Creek Road to Calispell Peak. Seek off-Refuge locations for the snowpark and trail to Calispell Peak.

Livestock Grazing. Eliminate the annual grazing program in five years and thereafter use grazing only as habitat management tool to achieve wildlife objectives.

Air Force Survival School. Phase out the use of the Refuge by the Air Force Survival School within five years.

Other Alternatives Considered

The draft and final CCP/EIS evaluated four other alternatives for the management of the Refuge, a brief summary of each follows.

Alternative A, the no action alternative. Make no changes to the prevailing practices and uses at the refuge.

Alternative B, restore wildlife habitat while managing existing public uses. This alternative combines an active forest and riparian restoration program with minimal change to existing public uses.

Alternative C, restore wildlife habitat while emphasizing priority public uses. This alternative adopts a greater emphasis on priority uses identified under the National Wildlife Refuge System Improvement Act of 1997 and eliminates or reduces non-priority uses. This alternative also incorporates a strong forest and riparian restoration program.

Alternative D, manage the Refuge as an ecological reserve and reduce human disturbances. This alternative minimizes human access and use of the refuge while conducting a moderate restoration program, with a greater emphasis on hydrologic restoration than other alternatives.

Actions common to all alternatives include the maintenance and protection of the Refuge's two Research Natural Areas; protection of the roadless area; management of other fee and easement parcels; continuation of annual payments to counties; continuation of timber salvage and firewood harvest; and cultural resource protection.

Public Involvement and Comments Received

Public comment has been requested, considered, and incorporated throughout the planning process in numerous ways. Public outreach included open houses, public meetings, plan work group meetings, a camping evaluation, planning update mailings, and Federal Register notices. Five previous notices were published in the Federal Register concerning this CCP/EIS (61 FR 65591, December 13, 1996; 63 FR 39884, July 24, 1998; 64 FR 24168, May 5, 1999; 64 FR 36712, July 7, 1999; 64 FR 46404, August 25, 1999 and 65 FR 24221 April 25, 2000).

Persons and organizations involved in the review process included: U.S. Forest Service; U.S. Natural Resource Conservation Service; U.S. Air Force; Washington Department of Fish and Wildlife; members of national, state and local conservation organizations; timber industry representatives; grazing permittees; inholders and neighboring landowners; and other interested citizens. Comments and concerns received early in the planning process were used to identify issues and draft preliminary alternatives. Preliminary alternatives were developed and public input sought through open houses and mailings. These alternatives generated 141 comments. During the Draft CCP/EIS comment period that occurred from May 5 to August 31, 1999, the Service received a total of 300 communications (letters, faxes, postcards, email messages, visits, or telephone calls) representing 327 persons. These comments were received from the following locations: Stevens County (42%), Spokane area (24%), other parts of Washington (22%), out of state (6%), and location unknown (5%). The Service also received three petitions signed by a total of 318 people.

All substantive issues raised in the comments have been addressed through revisions incorporated into the Final CCP/EIS text or responses contained in Appendix J of the Final CCP/EIS. These responses are incorporated by reference into the ROD.

Responses to Comments Received on the Final CCP/EIS

U.S. Congressman George R. Nethercutt, Jr. requested that the Service complete a risk takings analysis pursuant to Executive Order 12630, “Government Actions and Interference with Constitutionally Protected Property Rights.” This request was made specifically in the relation to the CCP/EIS proposal to eliminate the annual grazing program and cited several recent court cases. The Service researched property rights associated with water rights and found no valid claims associated with stock water rights or ditched rights of way. The Service concluded that eliminating an annual grazing program does not result in a constitutional taking and that Executive Order 12630 does not apply to federally owned lands within the Little Pend Oreille National Wildlife Refuge.

U.S. Senator Slade Gorton's Eastern Washington Director, Catherine O'Connell, called to question the science referenced in the evaluation of effects of Air Force training. The Service referenced the best available science in the CCP/EIS. While reactions to disturbance can and do vary by wildlife species, the weight of evidence indicates that aircraft disturbance can (under the right conditions) cause a variety of stress reactions to large mammals and raptors. Ms. O'Connell requested that the Air Force be allowed to continue using the Refuge if they desired, since their mission and stability is a national priority. The Service concludes that their use is not compatible with the purpose of the Refuge and that five years is a reasonable length of time for the Air Force to relocate in other suitable training locations.

Individuals representing the Kettle Range Conservation Group and the Pacific Biodiversity Institute requested that the Service reconsider its selection of a preferred alternative and encouraged more stringent measures to protect wildlife. These organizations questioned the preferred alternative's treatment of cattle grazing, Air Force training, snowmobiling, commercial logging, riparian buffers and riparian camping, open road density, and cumulative effects analysis. The commentators stated they thought the Service should be more aggressive in closing some of these activities. The Service's preference was to eliminate the existing annual cattle grazing program and Air Force training immediately. However, providing five years to phase out these long-term uses is determined to be a practical and reasonable approach to reduce impacts to affected parties. Stipulations to prevent further degradation from these uses will be incorporated in special use permits.

Regarding snowmobiling and protection of Canada lynx, the Service intends to work with neighboring land owners to seek an alternate snowmobile route off-refuge for access to Calispell Peak. Since the Service does not have sole jurisdiction and ownership of Olson Creek/Tacoma Creek Road, traditional ingress and egress will be allowed to continue. The lynx, a wide ranging species, requires landscape scale management and cooperation between landowners and land managing agencies. The Service will seek a landscape-scale solution to lynx protection.

Regarding the extent of riparian conservation buffers, the Service has reviewed the standards for riparian protection and agreed to increase the 200-foot distance recommended in the Final EIS, to 300 feet slope distance (600 feet, including both sides of the channel) for fish-bearing streams and lakes.

Regarding open road densities, the Kettle Range Conservation Group would like the Service to adopt a stricter road density standard for summer range (one mile per square mile). After reviewing this comment, it is decided that the CCP recommended road density standard will remain at 1.5 miles per square mile, consistent with State of Washington recommendation for white-tailed deer summer range. This will allow the Service flexibility in habitat restoration, forest management and fire management which are high priorities in the next 15 years. Over time, as forest habitat is restored to more stable and natural conditions, additional roads may be closed thus reducing summer road densities in future years.

Environmentally Preferable Alternative

The alternative which causes the least damage to the biological and physical environment and best protects, preserves, and enhances historic, cultural, and natural resources is Alternative D. The focus of Alternative D was to manage the Refuge as an ecological reserve. The key components of the alternative were to promote habitat restoration, to restore aquatic conditions to natural states, and to effectively enlarge roadless areas in the eastern Refuge by reducing human intrusions. The alternative supported the priority uses established under the National Wildlife Refuge System Improvement Act of 1997, however, access for these uses was very restrictive. Only no-trace camping would be allowed. Other uses such as horseback riding, livestock grazing, and the Air Force survival training would be eliminated from the Refuge. Only four access points to the Refuge would be maintained. Many of the recommendations contained in Alternative D were opposed by a large number of public commentators.

Findings and Basis for Decision

Based upon review and careful consideration of—the impacts identified in the Final CCP/EIS; results of the various studies and surveys conducted in conjunction with the Draft and Final CCP/EIS; public comments received throughout the process including comments on the Draft and Final CCP/EIS; and other relevant factors including the purposes for which the Refuge was established by Executive Order and statutory and regulatory guidance—the Service finds that selecting Alternative E for implementation is appropriate for the following reasons.

Alternative E consists of the programs and facilities mentioned above;

Alternative E, as it is described in the Final CCP/EIS for the Little Pend Oreille National Wildlife Refuge, best accomplishes the establishing purposes of the Refuge and balances the statutory mission of the Service to provide long-term protection of the Refuge's resources, while allowing for appropriate levels of visitor use and appropriate means of visitor enjoyment. Alternative E also best accomplishes identified management goals and desired future conditions.

Alternative E represents the best balance between provision of habitat restoration, public access and recreation, and other programs, and public and agency concerns identified during the public participation process.

Based on an Intra-Service Section 7 evaluation, no state or federally listed endangered or threatened or endangered species or their critical habitats are known to be effected by the plan. Implementation of the decision would avoid any adverse impacts on wetlands and is not likely to adversely affect any endangered or threatened species, or result in destruction or adverse modification of critical habitat of such species. The determinations are: No effect to peregrine falcon; No effect to Utes ladies' tresses; and Not likely to adversely affect any of the following: bald eagle, gray wolf, grizzly bear, and Canada lynx.

No historic properties listed in or eligible for listing in the National Register of Historic Places are known to be affected by the plan.

The requirements of NEPA and the implementing regulations (40 CFR parts 1500-1508) have been satisfied.

Measures To Minimize Environmental Harm

Public concerns, potential impacts, and methods or stipulations to mitigate those impacts are addressed in the Final CCP/EIS. All practicable measures to avoid or minimize environmental impacts that could result from implementation of the selected action have been identified and incorporated into the selected action. Implementation of the selected action would avoid any adverse impacts on wetlands and any endangered or threatened species, or that would result in the destruction or adverse modification of critical habitat of such species. Mitigation measures called stipulations will be followed. They are documented in Appendix F, Compatibility Determinations for the Final CCP/EIS and are incorporated here by reference. These stipulations make public and other uses compatible with the purpose for which the Refuge was established. The referenced compatibility stipulations ensure that all practical means to avoid or minimize environmental harm from the Selected Alternative have been adopted.

The Service has considered the environmental and relevant concerns presented by agencies, organizations and individuals on the proposed action to develop and implement a Comprehensive Conservation Plan for the Little Pend Oreille National Wildlife Refuge. I have decided to implement Alternative E, the Service's preferred alternative. The ROD serves as the written facts and conclusions relied upon in reaching this decision.

Dated: May 31, 2000.
Daniel H. Diggs,
Acting Regional Director, Region 1, Portland, Oregon.

[FR Doc. 00-15466 Filed 6-19-00; 8:45 am]

BILLING CODE 4310-55-P